DEPARTMENT OF AGRICULTURE

Forest Service

DEPARTMENT OF THE INTERIOR

Bureau of Land Management

[WY-920-08-5101-ER-K099; WYW-174598; IDI-35849]

Notice of Intent To Prepare an Environmental Impact Statement, for the Gateway West 230/500 kV Transmission Line Project in Idaho and Wyoming and Possible Land Use Plan Amendments

AGENCIES: Bureau of Land Management, DOI; and Forest Service, USDA.

ACTION: Notice of Intent to prepare an Environmental Impact Statement (EIS), Possible Land Use Plan Amendments, and notice of public scoping meetings.

SUMMARY: Pursuant to section 102(2)(C) of the National Environmental Policy Act (NEPA) of 1969 and in response to a Right-of-Way (ROW) application filed by Idaho Power and Rocky Mountain Power, the Bureau of Land Management (BLM), Wyoming State Office, U.S. Forest Service (USFS), Caribou-Targhee and Medicine Bow-Routt National Forests, announces their intention to prepare an EIS and conduct public scoping meetings. Idaho Power and Rocky Mountain Power propose to construct electric transmission lines from the proposed Windstar Substation near the Dave Johnston Power Plant at Glenrock, Wyoming to the proposed Hemingway substation near Melba, Idaho, approximately 20 miles southwest of Boise, Idaho. The project is composed of 11 transmission line segments with a total length of approximately 1,250 miles. Authorization of this proposal may result in the amendment of Forest Service and BLM land use plans (Forest Plans, Management Framework Plans, and Resource Management Plans).

DATES: This notice initiates the public scoping process. The BLM can best use public input if comments and resource information are submitted by July 03, 2008. To provide the public an opportunity to review the proposal and project information, the BLM expects to hold at least nine meetings in both Idaho and Wyoming along the proposed route. The meetings will be conducted in an “open house” format with the BLM staff and project proponents available to explain project details and gather information from interested individuals or groups. BLM is proposing to host open houses in the following communities: Casper, Kemmerer, Rawlins, and Rock Springs, Wyoming; Boise, Montpelier, Murphy, Pocatello, and Twin Falls, Idaho. The BLM will announce the exact dates, times, and locations for these meetings at least 15 days prior to the event. Announcements will be made by news release to the media, individual letter mailings, and posting on the project Web site listed below.

ADDRESSES: You may submit comments or resource information by any of the following methods:

• Web site: http://www.wy.blm.gov/nepa/cfodocs/gateway_west.

• E-mail: Gateway_West_WYMail@blm.gov.

• Mail: Bureau of Land Management, Gateway West Project, P.O. Box 20879, Cheyenne, WY 82003.

• Courier or Hand Deliver: Bureau of Land Management, Gateway West Project, 5353 Yellowstone Road, Cheyenne, WY 82009.

Documents pertinent to the ROW application may be examined at:

• Bureau of Land Management, Wyoming State Office, Public Room, 5353 Yellowstone Road, Cheyenne, WY 82003, Telephone (307) 775-6256.

• Bureau of Land Management, Idaho State Office, Public Room, 1387 South Vinnell Way, Boise, Idaho 83709, Telephone (208) 373-3863.

FOR FURTHER INFORMATION: For further information and/or to have your name added to our mailing list, contact Walter George, Gateway West Project Manager, Wyoming State Office, P.O. Box 20879, Cheyenne, WY 82003 or by e-mail to Gateway_West_WYMail@blm.gov.

SUPPLEMENTARY INFORMATION: Idaho Power and Rocky Mountain Power have submitted a ROW application to locate 230 and 500 kV electric transmission lines on federal lands. The proposed lines originate at the proposed Windstar Substation near the Dave Johnston Power Plant at Glenrock, Wyoming and end at the proposed Hemingway Substation, approximately 20 miles southwest of Boise, Idaho. The project is composed of 11 segments with a total length of approximately 1,250 miles. The requested ROW width varies from 150 to 250 feet. Approximately 500 miles or 40% of the total length traverses federally-administered land in Idaho and Wyoming.

In Idaho, approximately 300 miles crosses public land administered by seven BLM Field Offices: Bruneau, Burley, Four Rivers, Jarbidge, Owyhee, Pocatello, and Shoshone. In Wyoming, approximately 200 miles crosses public land administered by four BLM Field Offices: Casper, Kemmerer, Rawlins and Rock Springs. An alternate route may be considered that involves approximately one mile of public lands in the Salt Lake Field Office of Utah. In addition, the proposed transmission line route crosses approximately 12 miles in two units of the National Forest System administered by the Forest Service, Department of Agriculture: Two miles in the Douglas Ranger District of the Medicine Bow National Forest in Wyoming and ten miles in the Montpelier Ranger District of the Caribou-Targhee National Forest in Idaho.

The proposed route generally follows existing power lines in the Idaho Power and Rocky Mountain Power systems. The proposed route passes near the following towns and locations:

• In Wyoming: Casper, Hanna, Rawlins, Rock Springs, and Kemmerer.

• In Idaho: Montpelier, American Falls, Twin Falls, Glenns Ferry, Mountain Home, Burley, Shoshone, Jerome, and Boise.

BLM is the lead federal agency for the NEPA analysis process and preparation of the EIS. Cooperating agencies identified at this time include: The USFS, National Park Service, Fish and Wildlife Service, State of Wyoming, Cassia County, Idaho, Lincoln and Sweetwater Counties, Wyoming. Other states and local governments will be invited to participate as cooperating agencies.

Through public scoping, the BLM expects to identify various issues, potential impacts, mitigation measures, and alternatives to the proposed action. At present, the BLM has identified the following issues and concerns:

• Effects on wildlife habitat, plants, and animals including threatened, endangered, and sensitive species.

• Effects to visual resources and existing view sheds.

• Effects to National Historic Trails and their view sheds.

• Effects to Native American traditional cultural properties and respected places.

• Effects to soils and water from surface disturbing activities.

• Land use conflicts and inconsistency with land use plans.

• Effect of the project on local and regional socioeconomic conditions.

• Increased potential for introduction and spread of noxious weeds and the ability to efficiently reclaim lands disturbed by transmission line construction or location.

The BLM will analyze the proposed action and no action alternatives, as well as other possible alternatives to the proposed power line location and access routes. The BLM encourages you to send us your comments concerning the power line project as proposed and feasible alternative locations, possible mitigation measures, and any other information relevant to the proposed action.

Authorization of this proposal may require amendment of one or more Forest Service or BLM land use plans. By this notice, BLM is complying with requirements in 43 CFR 1610.2(c) and the USFS is complying with 36 CFR 219.9 to notify the public of potential amendments to land use plans. If a Resource Management Plan, Management Framework Plan, or Forest Plan Amendment is necessary, BLM and USFS will integrate the land use planning process with the NEPA analysis process for this project. The environmental decision document for the BLM will be signed by the Wyoming State Director, 5353 Yellowstone Road, Cheyenne, Wyoming 82009. Approving officials for the USFS are: Regional Forester, Region 2, 740 Simms Street, Golden, Colorado 80401-4720 and Regional Forester, Region 4, 324 25th Street, Ogden, Utah 84401.

Your input is important and will be considered in the environmental analysis process. All comment submittals must include the commenter's name and street address. Comments including the names and addresses of the respondent will be available for public inspection at the above offices during its business hours (7:45 a.m. to 4:30 p.m.), Monday through Friday, except federal holidays. Before including your address, phone number, e-mail address, or any other personal identifying information in your comment, be advised that your entire comment, including your personal identifying information may be publicly available at any time. While you can ask us in your comment to withhold from public review your personal identifying information, we cannot guarantee that we will be able to do so.

Any persons wishing to be added to a mailing list of interested parties can call or write to BLM, as described in this notice. Additional informational meetings may be conducted throughout the process to keep the public informed of the progress of the EIS.

Dated: May 5, 2008.
Robert G. Mickelsen,
Acting Forest Supervisor.
Dated: May 12, 2008.
James K. Murkin,
Acting State Director.

[FR Doc. E8-11060 Filed 5-15-08; 8:45 am]

BILLING CODE 4310-22-P